DEPARTMENT OF JUSTICE

Notice of Lodging of Consent Decree Under the Comprehensive Environmental Response, Compensation, and Liability Act

Pursuant to 28 CFR 50.7, notice is hereby given that on June 29, 2006, a proposed Consent Decree in United States v. Diamond State Salvage Company, Inc., Estate of Herbert Sherr, Nancy A. Sherr, Executrix of the Estate of Herbert Sherr, Barbara Sherr Kleger, and Delmarva Power & Light Company, Civil Action No. 05-76, was lodged with the United States District Court for the District of Delaware.

In this civil action under the Comprehensive Environmental Response, Compensation and Liability Act (“CERCLA”), the United States seeks recovery of response costs from Diamond State Salvage Company, Inc. (“Diamond State Salvage”), the Estate of Herbert Sherr, Barbara Sherr Kleger, and Delmarva Power & Light Company, in connection with the Diamond State Salvage Superfund Site in Wilmington, New Castle County, Delaware (“Diamond State Site” or “Site”). On June 24, 2005, the Court entered a Consent Decree resolving the liability of all defendants except for Diamond State Salvage. The Consent Decree lodged with the Court on June 29, 2006 resolves the liability of the sole remaining defendant, Diamond State Salvage under section 107(a) of CERCLA for response costs incurred and to be incurred at the Diamond State Site. The Consent Decree requires the owner of the Site, Diamond State Salvage to sell the Site property and pay the net proceeds to the United States in reimbursement of response costs incurred at the Site. The Decree also requires Diamond State Salvage to pursue insurance coverage for costs incurred by the United States at the Site and to pay a percentage of any proceeds recovered to the United States in reimbursement of response costs.

The Department of Justice will receive comments relating to the Consent Decree for a period of thirty (30) days from the date of this publication. Please address comments to the Assistant Attorney General, Environment and Natural Resources Division, P.O. Box 7611, U.S. Department of Justice, Washington, DC 20044-7611, and refer to United States v. Diamond State Salvage Company, Inc., et al., D.J. Ref. 90-11-1275.

The Consent Decree may be examined at the Office of the United States Attorney for the District of Delaware, 1201 Market Street, Suite 1100, Wilmington, DE 19899-2046 and at U.S. EPA Region III, 1650 Arch Street, Philadelphia, PA 19103. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $9.50 (25 cents per page reproduction cost) payable to the U.S. Treasury.

Robert Brook,
Assistant Chief, Environmental Enforcement Section, Environment and Natural Resources Division.

[FR Doc. 06-6155 Filed 7-11-06; 8:45 am]

BILLING CODE 4410-15-M